DEPARTMENT OF HEALTH AND HUMAN SERVICES

National Institutes of Health

National Institute of General Medical Sciences; Amended Notice of Meeting

Notice is hereby given of a change in the meeting of the National Institute of General Medical Sciences Special Emphasis Panel, July 10, 2014, 1:00 p.m. to July 10, 2014, 4:00 p.m., National Institutes of Health, Natcher Building, 45 Center Drive, Room 3An.18, Bethesda, MD 20892, which was published in the Federal Register on June 16, 2014, 79 FR 34329.

The meeting date has been changed to July 25, 2014 from 1:00 p.m. to 4:00 p.m. The meeting location remains the same. The meeting is closed to the public.

Dated: July 8, 2014.
Melanie J. Gray,
Program Analyst, Office of Federal Advisory Committee Policy.

[FR Doc. 2014-16261 Filed 7-10-14; 8:45 am]

BILLING CODE 4140-01-P